FEDERAL RESERVE SYSTEM

Agency Information Collection Activities: Announcement of Board Approval Under Delegated Authority and Submission to OMB

AGENCY: Board of Governors of the Federal Reserve System

SUMMARY: Background: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Clearance Officer --Cindy Ayouch--Division of Research and Statistics, Board of Governors of the Federal Reserve System, Washington, DC 20551 (202-452-3829).

OMB Desk Officer-Mark Menchik--Office of Information and Regulatory Affairs, Office of Management and Budget, New Executive Office Building, Room 10235, Washington, DC 20503.

SUPPLEMENTARY INFORMATION:

Final approval under OMB delegated authority of the extension for three years, without revision of the following reports:

1. Report title: Request for Extension of Time to Dispose of Assets Acquired in Satisfaction of Debts Previously Contracted

Agency form number: FR 4006

OMB control number: 7100-0129

Frequency: Annual

Reporters: Banking Holding Companies

Annual reporting hours: 180 hours

Estimated average hours per response: 5 hours

Number of respondents: 36

General description of report: This information collection is mandatory [12 U.S.C. §§ 1842(a) and 1843(c)(2)] and may be given confidential treatment upon request [5 U.S.C. § 552(b)(4)].

Abstract: Bank holding companies (BHCs) that have acquired voting securities or assets through foreclosure in the ordinary course of collecting a debt previously contracted (DPC) generally are required to submit the extension request annually for shares or assets that have been held beyond two years from the acquisition date. The extension request does not have a required format; BHCs submit the information in a letter. The letter contains information on the progress made to dispose of such shares or assets and requests permission for an extension to hold them. This extension request is required pursuant to the Board's authority under the Bank Holding Company Act of 1956 (the Act), as amended and Regulation Y. The Federal Reserve uses the information to fulfill its statutory obligation to supervise BHCs.

2. Report title: Report of Selected Balance Sheet Items for Discount Window Borrowers

Agency form number: FR 2046

OMB control number: 7100-0289

Frequency: On occasion

Reporters: Depository institutions

Annual reporting hours: 575 hours

Estimated average hours per response: 0.75 hours for primary and secondary credit borrowers; 0.25 hours for seasonal credit borrowers

Number of respondents: 128

General description of report: This information collection is mandatory (Sections 10B, 11(a)(2), and 11(i) of the Federal Reserve Act (12 USC §§ 347b(a) and 248(a)(2) and (i)) and individual respondent data are regarded as confidential (5 U.S.C. § 552(b)(4)).

Abstract: The Federal Reserve's Regulation A, “Extensions of Credit by Federal Reserve Banks,” requires that Reserve Banks review balance sheet data in determining whether to extend credit and in ascertaining whether undue use is made of such credit. Borrowers report certain balance sheet data for a period that encompasses the dates of borrowing.

Board of Governors of the Federal Reserve System, July 22, 2004.

Jennifer J. Johnson
Secretary of the Board.

[FR Doc. 04-17123 Filed 7-27-04; 8:45 am]

BILLING CODE 6210-01-S